DEPARTMENT OF ENERGY

Federal Energy Regulatory Commission

[Docket No. EL13-45-000]

TGP Development Company, LLC; TGP Flying Cloud Holdings, LLC; WEC TX Company, LLC v. Arizona Public Service Company; Notice of Complaint

Take notice that on February 1, 2013, pursuant to Rules 206 of the Rules of Practice and Procedure of the Federal Energy Regulatory Commission (Commission), 18 CFR 385.206 (2013) and section 206 of the Federal Power Act, 16 U.S.C. 824(e) (2006), TGP Development Company, LLC, TGP Flying Cloud Holdings, LLC, and WEC TX Company, LLC (collectively, Complainants) filed a formal complaint against Arizona Public Service Company (APS or Respondent), alleging that sections of APS's November 21, 2013 revisions to its open access transmission tariff is Docket No. ER13-447-000 are unjust and unreasonable. In particular, the Complainants allege that APS's change to the creditworthiness provisions in Attachment I, elimination of in-kind compensation of real power losses in Attachments G and K, and changes to section 3.3.1 of the Large Generator Interconnection Procedures are unjust and unreasonable.

The Complainants certify that copies of the complaint were served on the contacts for the Respondents as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on March 4, 2013.

Dated: February 4, 2013.
Nathaniel J. Davis, Sr.,
Deputy Secretary.

[FR Doc. 2013-03158 Filed 2-11-13; 8:45 am]

BILLING CODE 6717-01-P